FEDERAL COMMUNICATIONS COMMISSION

Federal Communications Commission En Banc Hearing and Conference on Overcoming Barriers to Communications Financing

ACTION: Notice of public meeting.

SUMMARY: This notice advises interested persons that the Federal Communications Commission will hold an En Banc Hearing and Conference on Overcoming Barriers to Communications on July 29, 2008. Networking opportunities will be provided for attendees at a breakout session.

DATES: Meeting is on July 29, 2008; En Banc and Conference held from 1 p.m. to 4 p.m. with a breakout session from 4 p.m. to 6 p.m.

ADDRESSES: The hearing and conference are located at Barnard College, 3009 Broadway, (at 117th Street) New York, NY 10027, in the James Room, 4th Floor, Barnard Hall.

SUPPLEMENTARY INFORMATION: The purpose of the hearing and conference is to enhance the knowledge of the Commission and attendees about: (i) The present state of capital markets as those markets impact ownership diversity in the media and telecom industries and, particularly, the success of minorities and women entrepreneurs; (ii) how financing is secured for new, diverse, resource-limited ventures, focusing on actual problems that have been encountered by women and minorities attempting to secure financing for media and telecom deals; and (iii) potential ways the Commission can help facilitate financing opportunities for minorities and women. Immediately following the En Banc hearing, there will be a breakout session where attendees will have an opportunity to meet with representatives of potential financing sources.

FOR FURTHER INFORMATION CONTACT: Barbara Kreisman, Chief, Video Division, (202) 418-1600 or e-mail: Barbara.kreisman@fcc.gov Members of the general public may attend the meeting and the FCC will attempt to accommodate as many people as possible.

Reasonable accommodations for people with disabilities are available upon request. Requests for such accommodations should be submitted via e-mail to fcc504@fcc.gov or by calling the Consumer & Governmental Affairs Bureau at (202) 418-0530 (voice), (202) 418-0432 (tty). Such requests should include a detailed description of the accommodation needed. In addition, please include a way we can contact you if we need more information. Please allow at least five days advance notice; last minute requests will be accepted, but may be impossible to fill.

Federal Communications Commission.
Barbara A. Kreisman,
Chief, Video Division.

[FR Doc. E8-15997 Filed 7-11-08; 8:45 am]

BILLING CODE 6712-01-P